DEPARTMENT OF TRANSPORTATION

Federal Railroad Administration

[Docket No. FRA-2008-0047]

Petition for Waiver of Compliance; Correction

SUMMARY: The Federal Railroad Administration (FRA) published a document in the Federal Register on April 28, 2008 announcing receipt of a joint request for waiver of compliance from the City of Seattle, Washington and the BNSF Railway Company. This notice corrects that document by acknowledging that the request for waiver of compliance from a certain provision of 49 CFR Part 222 was solely filed by the City of Seattle, Washington.

FOR FURTHER INFORMATION CONTACT: Ronald Ries, Office of Safety, FRA, 1200 New Jersey Avenue, SE., Washington, DC 20590 (telephone: 202-493-6299 or e-mail: Ronald.Ries@dot.gov); or Kathryn Shelton, Office of Chief Counsel, FRA, 1200 New Jersey Avenue, SE., Washington, DC 20590 (telephone: 202-493-6038 or e-mail: Kathryn.Shelton@dot.gov).

SUPPLEMENTARY INFORMATION: On April 28, 2008, FRA published a document announcing its receipt of a joint request for permanent waiver of compliance from a certain provision of 49 CFR Part 222 pertaining to the establishment of Pre-Rule Quiet Zones. However, BNSF Railway Company subsequently filed written correspondence asserting that it did not consent to the filing of the request for waiver of compliance that was allegedly submitted on its behalf by the City of Seattle, Washington. In light of this additional information, FRA will treat the request for waiver of compliance as having been solely filed by the City of Seattle, Washington.

Issued in Washington, DC on May 28, 2008.
Grady C. Cothen, Jr.,
Deputy Associate Administrator for Safety Standards and Program Development.

[FR Doc. E8-12410 Filed 6-3-08; 8:45 am]

BILLING CODE 4910-06-P